FEDERAL COMMUNICATIONS COMMISSION

47 CFR Part 73

[MB Docket No. 21-49; RM-11874; DA 21-524; FR ID 26159]

Television Broadcasting Services Augusta, Georgia

AGENCY: Federal Communications Commission.

ACTION: Final rule.

SUMMARY: On February 12, 2021, the Media Bureau, Video Division (Bureau) issued a Notice of Proposed Rulemaking in response to a petition for rulemaking filed by Gray Licensee, LLC (Licensee), the licensee of WRDW-TV, channel 12 (CBS), Augusta, Georgia, requesting the substitution of channel 27 for channel 12 at Augusta in the DTV Table of Allotments. For the reasons set forth in the Report and Order referenced below, the Bureau amends FCC regulations to substitute channel 27 for channel 12 at Augusta.

DATES: Effective May 14, 2021.

FOR FURTHER INFORMATION CONTACT: Andrew Manley, Media Bureau, at (202) 418-0596 or Andrew Manley@fcc.gov.

SUPPLEMENTARY INFORMATION: The proposed rule was published at 86 FR 13278 on March 8, 2021. The Petitioner filed comments in support of the petition reaffirming its commitment to applying for channel 27. No other comments were received. In support, the Petitioner states that the Commission has recognized that VHF channels have certain propagation characteristics which may cause reception issues for some viewers, that the reception of VHF signals require larger antennas relative to UHF channels, and that many of the WRDW-TV viewers experience difficulty receiving its signal. In addition, operation on channel 27 will not result in any predicted loss of service.

This is a synopsis of the Commission's Report and Order, MB Docket No. 21-49; RM-11874; DA 21-524, adopted May 5, 2021, and released May 5, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional review Act, see 5 U.S.C. 801(a)(1)(A).

List of Subjects in 47 CFR Part 73

Television.

Federal Communications Commission.
Thomas Horan,
Chief of Staff Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. Amend § 73.622, in the table in paragraph (i) (Post-Transition Table of DTV Allotments), under Georgia, by revising the entry for Augusta to read as follows:

§ 73.622 Digital television table of allotments.

* * * * *

(i) * * *

Community | Channel No.
* * * * *
GEORGIA
* * * * *
Augusta | 27, 30, 31, 42
* * * * *

[FR Doc. 2021-10162 Filed 5-13-21; 8:45 am]

BILLING CODE 6712-01-P